DEPARTMENT OF COMMERCE

National Oceanic and Atmospheric Administration

Agency Information Collection Activities; Submission to the Office of Management and Budget (OMB) for Review and Approval; Comment Request; Annual Economic Survey of Federal Gulf and South Atlantic Shrimp Permit Holders

The Department of Commerce will submit the following information collection request to the Office of Management and Budget (OMB) for review and clearance in accordance with the Paperwork Reduction Act of 1995, on or after the date of publication of this notice. We invite the general public and other Federal agencies to comment on proposed and continuing information collections, which helps us assess the impact of our information collection requirements and minimize the public's reporting burden. Public comments were previously requested via the Federal Register on March 19, 2025, during a 60-day comment period. This notice allows for an additional 30 days for public comments.

Agency: National Oceanic and Atmospheric Administration, Commerce.

Title: Annual Economic Survey of Federal Gulf and South Atlantic Shrimp Permit Holders.

OMB Control Number: 0648-0591.

Form Number(s): None.

Type of Request: Regular submission [Extension of a current information collection].

Number of Respondents: 650.

Average Hours per Response: 0.75.

Total Annual Burden Hours: 488.

Needs and Uses: This is a request for an extension of a currently approved information collection. NOAA Fisheries, Southeast Fisheries Science Center, annually collects economic data from commercial anglers in the Gulf and South Atlantic shrimp fisheries who hold one or more permits for harvesting shrimp from Federal waters (U.S. Exclusive Economic Zone). A collection of economic information from fishers affected by the management of Federal commercial fisheries is needed to ensure that the national goals, objectives, and requirements of the Magnuson-Stevens Fishery Conservation and Management Act (MFCMA) and other laws are met. These data are needed to conduct economic analyses in support of management of the shrimp fishery and to satisfy legal requirements. Information about revenues, variable and fixed costs, capital investment and other economic information is collected from a random sample of permit holders. The data will be used to assess how anglers will be impacted by and respond to Federal regulations likely to be considered by fishery managers.

Affected Public: Business or other for-profit organizations.

Frequency: Annually.

Respondent's Obligation: Required to Obtain or Retain Benefits.

Legal Authority: Magnuson Stevens Fishery Conservation and Management Act.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0591.

Sheleen Dumas,
Departmental PRA Compliance Officer, Office of the Under Secretary for Economic Affairs, Commerce Department.

[FR Doc. 2025-10303 Filed 6-5-25; 8:45 am]

BILLING CODE 3510-22-P